DEPARTMENT OF STATE

[Public Notice: 9459]

Notice of Meeting of the Cultural Property Advisory Committee

There will be a meeting of the Cultural Property Advisory Committee (“the Committee”) May 24-26, 2016, at the United States Department of State, Harry S Truman Building, 2201 C Street NW., and State Annex 5, 2200 C Street NW., Washington, DC. The Committee's responsibilities are carried out in accordance with provisions of the Convention on Cultural Property Implementation Act (19 U.S.C. 2601 et seq.) (“the Act”). A portion of this meeting will be closed to the public pursuant to 5 U.S.C. 552b(c)(9)(B) and 19 U.S.C. 2605(h).

During the closed portion of the meeting, the Committee will review the proposal to extend the Memorandum of Understanding between the Government of the United States of America and the Government of the Republic of Bolivia Concerning the Imposition of Import Restrictions on Archaeological Material from the Pre-Columbian Cultures and Certain Ethnological Material from the Colonial and Republican Periods of Bolivia (“Bolivia MOU”) [Docket No. DOS-2016-0008]. Also, during the closed portion of the meeting, the Committee will review the proposal to extend the Memorandum of Understanding between the Government of the United States of America and the Government of the Hellenic Republic Concerning the Imposition of Import Restrictions on Categories of Archaeological and Byzantine Ecclesiastical Ethnological Material through the 15th Century A.D. of the Hellenic Republic (“Greece MOU”) [Docket No. DOS-2016-0009].

An open portion of the meeting to receive oral public comments on the proposals to extend the Bolivia MOU and the Greece MOU will be held on Tuesday, May 24, 2016, beginning at 9:30 a.m. EDT. The text of the Act and the MOUs, as well as related information, may be found at http://culturalheritage.state.gov.

If you wish to attend the open portion of the meeting of the Committee on May 24, 2016, please notify the Cultural Heritage Center of the U.S. Department of State at (202) 632-6301 no later than 5:00 p.m. (EDT) May 9, 2016, to arrange for admission. Seating is limited. When calling, please request reasonable accommodation if needed. The open portion will be held at the U.S. Department of State, Harry S Truman Building, 2201 C St. NW., Room 1107, Washington, DC 20037. Please plan to arrive 30 minutes before the beginning of the open session.

Personal information regarding attendees is requested pursuant to the Omnibus Diplomatic Security and Antiterrorism Act of 1986, as amended (Pub. L. 99-399), the USA PATRIOT Act (Pub. L.107-56), and Executive Order 13356. The purpose of this collection is to validate the identity of individuals who enter U.S. Department of State facilities. The data will be entered into the Visitor Access Control System (VACS-D) database. Please see the Security Records System of Records Notice (State-36) at https://foia.state.gov/_docs/SORN/State-36.pdf for additional information.

If you wish to make an oral presentation at the open portion of the meeting, you must request to be scheduled by the above-mentioned date and time, and you must submit a written summary of your oral presentation, ensuring that it is received no later than May 9, 2016, at 11:59 p.m. (EDT), via the eRulemaking Portal (see below), to allow time for distribution to members of the Committee prior to the meeting. Oral comments will be limited to five (5) minutes to allow time for questions from members of the Committee. All oral comments must relate specifically to matters referred to in 19 U.S.C. 2602(a)(1), with respect to which the Committee makes its findings and recommendations.

If you do not wish to make oral comments but still wish to make your views known, you may submit written comments for the Committee to consider. Your written comments should relate specifically to the matters referred to in 19 U.S.C. 2602(a)(1). Please submit written comments electronically through the eRulemaking Portal (see below), ensuring that they are received no later than May 9, 2016, at 11:59 p.m. (EDT). Our adoption of this procedure facilitates public participation; implements Section 206 of the E-Government Act of 2002, Pub. L. 107-347, 116 Stat. 2915; and supports the Department of State's “Greening Diplomacy” initiative that aims to reduce the State Department's environmental footprint and reduce costs. The Department requests that any party soliciting or aggregating written comments received from other persons for submission to the Department inform those persons that the Department will not edit their comments to remove any identifying or contact information, and that they therefore should not include any such information in their comments that they do not want publicly disclosed.

Please submit written comments or a written summary of your oral presentation only once using one of these methods:

• Electronic Delivery. To submit written comments electronically, go to the Federal eRulemaking Portal (http://www.regulations.gov), enter either Docket No. DOS-2016-0008 for Bolivia or Docket No. DOS-2016-0009 for Greece, and follow the prompts to submit comments. Written comments submitted in electronic form are not private. They will be posted at http://www.regulations.gov. Because written comments cannot be edited to remove any personally identifying or contact information, the U.S. Department of State cautions against including any information in an electronic submission that one does not want publicly disclosed (including trade secrets and commercial or financial information that are privileged or confidential within the meaning of 19 U.S.C. 2605(i)(1)). Written comments submitted by fax or email are not accepted.

• Regular Mail or Delivery. If you wish to submit information that you believe to be privileged or confidential within the meaning of 19 U.S.C. 2605(i)(1), you may do so via regular mail, commercial delivery, or personal hand delivery to the following address: Cultural Heritage Center (ECA/P/C), SA-5, Floor C2, U.S. Department of State, 2200 C Street NW., Washington, DC 20522-05C2. Only written comments containing information that you believe to be privileged or confidential will be accepted via regular mail or delivery. Such comments must be received by May 9, 2016.

For further information, contact Isabella Strohmeyer, Program Coordinator, at 202-632-6198.

Dated: March 2, 2016.
Evan Ryan,
Assistant Secretary, Bureau of Educational and Cultural Affairs, U.S. Department of State.

[FR Doc. 2016-05671 Filed 3-11-16; 8:45 am]

BILLING CODE 4710-05-P